EQUAL EMPLOYMENT OPPORTUNITY COMMISSION

Sunshine Act Notice

AGENCY HOLDING THE MEETING: Equal Employment Opportunity Commission.

“FEDERAL REGISTER” CITATION OF PREVIOUS ANNOUNCEMENT: 74 FR 46992, Monday, September 14, 2009.

PREVIOUSLY ANNOUNCED TIME AND DATE OF MEETING: Thursday, September 17, 2009, 9:30 a.m. (Eastern Time).

CHANGE IN THE MEETING: The meeting has been cancelled.

CONTACT PERSON FOR MORE INFORMATION: Stephen Llewellyn, Executive Officer on (202) 663-4070.

Dated: September 16, 2009.
Stephen Llewellyn,
Executive Officer, Executive Secretariat.

[FR Doc. E9-22774 Filed 9-17-09; 11:15 am]

BILLING CODE 6570-01-P